DEPARTMENT OF COMMERCE

National Institute of Standards and Technology

International Code Council: The Update Process for the International Codes and Standards

AGENCY: National Institute of Standards and Technology (NIST), Commerce.

ACTION: Notice.

SUMMARY: The International Code Council (ICC), promulgator of the International Codes and Standards, maintains a process for updating the entire family of International Codes (“I-Codes”) based on receipt of proposals from interested individuals and organizations involved in the construction industry, as well as the general public. The first edition of the I-Codes was the 2000 edition; the current edition is the 2003 edition. The codes are updated every three years (2006, 2009 edition, etc.) with an intervening Supplement published every 18 months. There are two hearings for each code development cycle: The first where a committee considers the proposals and recommends an action on each proposal, and the second to consider comments submitted in response to the committee action on proposals.

The purpose of this request is to increase public participation in the system used by ICC to develop its codes and standards. In accordance with the responsibilities assigned to NIST by the National Technology Transfer and Advancement Act of 1995, NIST is publishing this notice as a public service on behalf of ICC. NIST does not necessarily endorse, approve, or recommend any of the codes or standards referenced in the notice.

DATES: The date of the Final Action Hearing is May 17-20, 2004 at the Sheraton Hotel in Overland Park, KS. This hearing will complete the 2003/2004 Code Development Cycle. Any interested party can participate and testify, and there is no cost to attend the hearings. The 2004 Supplement to the 2003 I-Codes will be the result of this cycle. The deadline for submittal of code changes for the 2004/2005 Code Development Cycle is August 20, 2004. Information on ICC's code development schedule, the agenda for the hearing, and hotel information are also posted on the ICC Web site at: http://www.iccsafe.org.

FOR FURTHER INFORMATION CONTACT: Mike Pfeiffer, PE; Vice President, Codes & Standards Development; ICC Chicago District Office, 4051 West Flossmoor Road, Country Club Hills, IL 60478; Telephone (708) 799-2300, Extension 338. E-mail: mpfeiffer@iccsafe.org.

SUPPLEMENTARY INFORMATION:

Background

ICC produces the only family of Codes and Standards that are comprehensive, coordinated and necessary to regulate the built environment. Federal agencies frequently use these codes and standards as the basis for developing Federal regulations concerning new and existing construction.

The Code Development Process is initiated when proposals from interested persons, supported by written data, views or arguments, are solicited and published in the Proposed Changes Document. This document is distributed a minimum of 30 days in advance of the first hearing and serves as the agenda.

At the first hearing, each ICC Code Development Committee considers testimony on every proposal and acts on each one individually (Approval, Disapproval, or Approval as Modified). The ICC members in attendance (“assembly”) are also afforded the opportunity to vote. The results are published in a report entitled the Report of the Public Hearing, which identifies the disposition of each proposal, the assembly vote and the reason for the committee's action. Anyone wishing to submit a comment on the assembly's vote or committee's action, expressing support or opposition, is provided the opportunity to do so. Comments received are published and distributed in a document called the Final Action Agenda which serves as the agenda for the second hearing. Proposals which are approved at the second hearing, are incorporated in either the Supplement or Edition, as applicable, with the next cycle starting with the submittal deadline for proposals.

Proponents of proposals automatically receive a copy of all documents (Proposed Changes, Report of the Public Hearing, and Final Action Agenda). Interested parties may also request a copy, free of charge, from the ICC Chicago District Office. See the FOR FURTHER INFORMATION CONTACT listed with this Notice. Copies can also be downloaded from the ICC Web site at http://www.iccsafe.org.

The International Codes and Standards consist of the following:

I-Codes:

International Building Code

ICC Electrical Code

International Energy Conservation Code

International Existing Building Code

International Fire Code

International Fuel Gas Code

International Mechanical Code

ICC Performance Code for Buildings and Facilities

International Plumbing Code

International Private Sewage Disposal Code

International Property Maintenance Code

International Residential Code

International Urban-Wildland Interface Code

International Zoning Code

I-Standards:

ICC/ANSI A 117.1 Accessible and Usable Buildings and Facilities

ICC Standard on Bleachers, Folding and Telescopic Seating and Grandstands

ICC Standard on Storm Shelters (under development)

ICC Standard on Hurricane Resistant Construction (under development)

The process for updating and developing ICC Standards is ANSI accredited and includes similar steps to the process of Code Development: Soliciting proposals; committee action; public comment; final vote; and publication of the standard.

Dated: March 25, 2004.
Hratch G. Semerjian,
Acting Director.

[FR Doc. 04-7450 Filed 4-1-04; 8:45 am]

BILLING CODE 1310-13-P